ENVIRONMENTAL PROTECTION AGENCY

[FRL-6849-1]

Request for Nominations to a Presidential Federal Advisory Committee Called the Good Neighbor Environmental Board (Mission: U.S.-Mexico Border Environmental Sustainability)

AGENCY: Environmental Protection Agency (EPA).

ACTION: Notice of request for nominations.

SUMMARY: As manager of the operations of the Good Neighbor Environmental Board, EPA invites nominations of qualified candidates to consider for appointment to fill vacancies on the Board. Nominations are welcome on an ongoing basis. Current vacancies on this committee are scheduled to be filled by September 1, 2000.

Background on the Committee: The Good Neighbor Environmental Board advises the President and Congress of the United States on environmental and infrastructure issues and needs within the U.S. states contiguous to Mexico, with special focus on the border region. The Board consists of representatives from eight U.S. Government agencies; from the governments of the States of Arizona, California, New Mexico and Texas; from Tribal governments in the border region; and from private organizations and other non-governmental entities with experience and expertise on environmental and infrastructure problems along the southwest border. Non-federal members are appointed by the Administrator of EPA for a term of two years with the possibility of reappointment. The Board meets 3 times annually, usually at border locations within the four U.S. border states.

Authorization: The Board is authorized under section 6 of the Enterprise for the Americas Initiative Act, 7 U.S.C. 5404.

Qualifications Sought: Non-federal committee members include representatives from environmental and other non-profit groups, industry, academia, and state, local and tribal governments in the States of Arizona, California, New Mexico and Texas. The Board's recommendations to the President and Congress are consensus-based and result from discussions among individuals from many walks of life. Nominees with first-hand experience of the challenges and opportunities involved in building and maintaining environmental sustainability along the U.S.-Mexico border are encouraged to apply. Those with professional and educational expertise in the field, as well as those with experience in developing policy and making environmental infrastructure decisions, also welcome.

Application Process: Nominations for committee membership may be self-submitted or submitted as recommendations on others. They should be submitted to the Designated Federal Officer of the Committee, listed below. Each nomination must include a résumé describing the candidate's experience related to the work of the committee as well as any professional and educational qualifications. A current business address, daytime telephone number, fax, and e-mail address must also be included.

Contact: Elaine Koerner, Designated Federal Officer, Good Neighbor Environmental Board, Office of Cooperative Environmental Management, U.S. Environmental Protection Agency (1601A), Washington, D.C. 20004. Telephone 202-564-1484; fax 202-501-0661; email koerner.elaine@epa.gov.

Dated: July 20, 2000.
Elaine M. Koerner,
Designated Federal Officer.

[FR Doc. 00-20347 Filed 8-10-00; 8:45 am]

BILLING CODE 6560-50-P